DEPARTMENT OF AGRICULTURE

Solicitation of Nominations for Membership on the Rural Community Economic Development (RCED) Subcommittee of the USDA Equity Commission

AGENCY: United States Department of Agriculture (USDA).

ACTION: Solicitation of nominations for membership on the RCED Subcommittee of the USDA Equity Commission.

SUMMARY: In accordance with Section 1006 of the American Rescue Plan Act of 2021, USDA Secretary Thomas Vilsack established an Equity Commission. The USDA Equity Commission will advise the Secretary of Agriculture by facilitating identification of critical USDA programs, policies, systems, structures, and practices that contribute to barriers to inclusion or access, systemic discrimination, or exacerbate or perpetuate racial, economic, health and social disparities. The USDA Equity Commission is governed under the American Rescue Plan Act of 2021, and by the provisions of the Federal Advisory Committee Act (FACA). A Rural Community Economic Development (RCED) Subcommittee is being formed and will be charged with providing recommendations on issues and concerns related to rural development, persistent poverty, and underserved communities.

DATES: We will consider applications that are received by May 6, 2022.

ADDRESSES: Please submit nominations to Cecilia Hernandez, Designated Federal Officer (DFO), Office of the Deputy Secretary, Department of Agriculture, 1400 Independence Avenue SW, Room 6006-S, Washington, DC 20250; or send by email to: equitycommission@usda.gov.

FOR FURTHER INFORMATION CONTACT: Visit www.usda.gov/equity-commission or email: equitycommission@usda.gov, or Cecelia Hernandez, telephone: 202-913-5907.

SUPPLEMENTARY INFORMATION:

Background

While USDA's expansive presence in rural communities is one of its greatest strengths, it is increasingly clear that the decentralized, local nature of information sharing and decision-making can be problematic, especially for underserved communities and non-traditional customers. For example, local and regional food systems is a complex industry with significant up-front costs including land, seed, labor, fertilizer, and other inputs. In addition to assistance accessing affordable capital, producers often need assistance with business plan development, tax planning, expand market, or simply navigating the complexity of the financial institutions from which they are seeking to secure credit, be that USDA or elsewhere. These challenges are compounded in rural communities of persistent poverty where race and location combined have resulted in structural exclusion from financial systems and other ladders of opportunity.

Underserved communities and populations are disproportionately impacted by the effects of economic and environmental shocks. As the world continues to experience the impacts of a pandemic and the devastating impacts of climate change, including drought, flooding, wildfire, and increased severity of storms, these communities are often on the front lines. Historic inequities have often left such communities and populations with low capacity to deal with these challenges. In fact, two-thirds of over 3,000 counties in the United States are rural and 310 of those rural communities have high and persistent levels of poverty. Rural communities are generally closer to land and water, making its residents, housing, businesses, and infrastructure more vulnerable to the impacts of climate change. Of the 310, 86% or 267 counties are rural and concentrated in persistently poor areas of the Delta Region, Appalachia, the Southern Border Region, Puerto Rico and other insular areas, and on Native American lands. The majority (60%) of people living in persistent poverty ¹ counties are people of color. Since investments have historically lagged in these areas, their already vulnerable position is made worse by the inadequate and affordable access to reliable infrastructure, public services, and community economic development opportunities.

¹ Persistent poverty counties are counties that have had poverty rates of 20% or greater for at least 30 years. For more information, visit: https://crsreports.congress.gov/product/pdf/R/R45100.

The American Rescue Plan Act provides USDA a generational opportunity to leverage the Equity Commission and empower rural stakeholders to make recommendations to the Secretary in advancing equity at USDA and its programs. Launched on February 28, 2022, to kick off its Subcommittee for Agriculture, the Equity Commission in collaboration with USDA determined a need for an additional Subcommittee focused on RCED issues.

Scope and Purpose of the RCED Subcommittee

The RCED Subcommittee will be focused on providing recommendations that would enable underserved communities to have equitable access to USDA programs and increase their capacity to break the cycle of persistent poverty. USDA programs may include those that support or affect the following rural issues:

• Local and regional food

• Workforce development

• Small businesses

• Cooperative development

• Capacity building

• Community planning

• Technical assistance

• Data management

• Housing

• Community facilities

• Telecommunication and broadband

• Electric and clean energy

• Recreational economy

• Water, wastewater, and solid waste

• Lending and lender relationships

• Tribal

• Healthcare

USDA programs that support the topics above are administered by Rural Development (Rural Business Service, Rural Housing Service, and Rural Utilities Service) mission area and some programs within the Natural Resource and Environment (U.S. Forest Service), Marketing and Regulatory Programs (e.g., Agricultural Marketing Service) and Research Education and Economics (e.g., National Institute of Food and Agriculture and Extension) mission areas. Understanding barriers and needed improvements in programs will assist USDA to provide economic opportunities in places that need help the most and ensure that investments equitably benefit underserved communities.

Membership

The RCED Subcommittee will be comprised of 15 members. Two members of the USDA Equity Commission will serve in the RCED subcommittee. Membership representation will come from the following:

• 4 representatives from community-based organizations;

• 2 representatives from lending institutions;

• 2 representatives from small business or cooperatives;

• 1 representative from a tribal entity;

• 1 university, community college, or trades personnel;

• 3 individuals selected at the discretion of the Secretary; and,

• 2 members from the EC (as explained above).

Members must adhere to required background investigation, ethics, and onboarding requirements prior to formal appointment. Although all tasks are performed on a voluntary basis without compensation, USDA will be reimbursed for travel expenses, including per diem instead of subsistence, authorized by 5 U.S.C. 5703, in the same manner as a person employed intermittently in the Government service.

Subcommittee membership expires along with the parent Equity Commission on March 2024 unless extended.

Criteria for Selection

In order to better represent the targeted population, criteria considered for membership on the RCED Subcommittee will include combined experience and expertise in various topics under Scope and Purpose. To achieve membership balance, USDA will consider diversity of perspectives including but not limited to geographic representation as well as deep life and professional experiences serving rural and underserved communities across the country.

Applicants who previously submitted a complete application for the Equity Commission or Agriculture Subcommittee, please do not submit your applications again, USDA will consider and review your existing application. No further action is required at this time.

Meetings

The subcommittee will meet as deemed necessary by the USDA Equity Commission co-chairs and may meet in person and/or by teleconference or by computer-based conferencing. The subcommittee may invite technical experts to present information for consideration. The subcommittee meetings will not be announced in the Federal Register, only the public meetings of the USDA Equity Commission overseeing and deliberating the subcommittees' progress. All data and records available to the full USDA Equity Commission are expected to be available to the public via www.usda.gov/equity-commission and the www.facadatabase.gov/FACA/apex/FACAPublicCommittee?id=a10t000000ErJLmAAN when the full Equity Commission reviews and approves the work of the subcommittee.

The RCED subcommittee will report back to the parent committee—USDA Equity Commission and will not provide advice or work products directly to USDA or any of its agencies.

Ethics Requirements

To maintain the highest levels of honesty, integrity and ethical conduct, no subcommittee member shall participate in any “specific party matters” (i.e., matters are narrowly focused and typically involve specific transactions between identified parties) such as a lease, license, permit, contract, claim, grant, agreement, or related litigation with the Department in which the member has a direct financial interest. This includes the requirement for Subcommittee members to immediately disclose to the DFO (for discussion with USDA's Office of Ethics) any specific party matter in which the member's immediate family, relatives, business partners or employer would be directly seeking to financially benefit from the Committee's recommendations.

All members will receive ethics training to identify and avoid any actions that would cause the public to question the integrity of the subcommittee's advice and recommendations. Members who are appointed as “Representatives” are not subject to Federal ethics laws because such appointment allows them to represent the point(s) of view of a particular group, business sector or segment of the public.

Members appointed as “Special Government Employees” (SGEs) are considered intermittent Federal employees and are subject to Federal ethics laws. SGE's are appointed due to their personal knowledge, academic scholarship, background or expertise. No SGE may participate in any activity in which the member has a prohibited financial interest. Appointees who are SGEs are required to complete and submit a Confidential Financial Disclosure Report (OGE-450 form) via the FDonline e-filing database system. Upon request USDA will assist SGEs in preparing these financial reports. To ensure the highest level of compliance with applicable ethical standards USDA will provide ethics training to SGEs on an annual basis. The provisions of these paragraphs are not meant to exhaustively cover all Federal ethics laws and do not affect any other statutory or regulatory obligations to which advisory committee members are subject.

Application Process

Individuals who wish to be considered for the RCED Subcommittee must the following:

1. [Required] A resume or curriculum vitae (CV) providing the nominee's background, experience, educational qualifications, and nominees preferred role (not to exceed 15 pages).

2. [Required] A completed background disclosure form (Form AD-755) signed by the nominee on page 2 following item 19: https://www.usda.gov/sites/default/files/documents/ad-755.pdf.

Application is open to the public, including minorities, LGBTQI+ individuals, women, and persons with disabilities in areas designated within the United States, Caribbean Area (Puerto Rico and the U.S. Virgin Islands), and the Pacific Basin Area (Guam, American Samoa, and the Commonwealth of the Northern Marianna Islands).

All submissions must be typed and legible. Please send required application documents by email to equitycommission@usda.gov or by mail to Attn: Cecilia Hernandez, 1400 Independence Avenue SW, Room 6006-S, Washington, DC 20250; telephone: (202) 913-5907.

Equal Opportunity Statement

USDA prohibits discrimination in all of its programs and activities based on race, sex, color, national origin, gender, religion, age, sexual orientation, or disability. Additionally, discrimination based on political beliefs and marital status, or family status is also prohibited by statutes enforced by USDA (not all prohibited bases apply to all programs). Persons with disabilities who require alternative means for communication of program information (Braille, large print, audiotape, etc.) should contact USDA's Technology and Accessible Resources Give Employment Today Center at (202) 720-2600 (voice and TDD). USDA is an equal opportunity provider and employer.

Dated: April 1, 2022.
Cikena Reid,
Committee Management Officer, USDA.

[FR Doc. 2022-07260 Filed 4-7-22; 8:45 am]

BILLING CODE 3410-18-P